NATIONAL AERONAUTICS AND SPACE ADMINISTRATION

[Notice: (16-078)]

NASA Advisory Council; Technology, Innovation and Engineering Committee; Meeting

AGENCY: National Aeronautics and Space Administration.

ACTION: Notice of meeting.

SUMMARY: In accordance with the Federal Advisory Committee Act, Public Law 92-463, as amended, the National Aeronautics and Space Administration (NASA) announces a meeting of the Technology, Innovation and Engineering (TI&E) Committee of the NASA Advisory Council (NAC). This Committee reports to the NAC.

DATES: Friday, November 18, 2016, 8:00 a.m. to 5:00 p.m., Local Time.

ADDRESSES: NASA Headquarters, Room MIC 6A, 300 E Street SW., Washington, DC 20546.

FOR FURTHER INFORMATION CONTACT: Mr. Mike Green, Space Technology Mission Directorate, NASA Headquarters, Washington, DC 20546, (202) 358-4710, or g.m.green@nasa.gov.

SUPPLEMENTARY INFORMATION: The meeting will be open to the public up to the capacity of the room. This meeting is also available telephonically and by WebEx. Any interested person must call the USA toll-free conference number 1-844-467-6272, and the numeric passcode: 102421 followed by the # sign. If dialing in, please “mute” your phone. The WebEx link is https://nasa.webex.com/, the meeting number is 992 192 538, and the password is Technology16‸.

The agenda for the meeting includes the following topics:

—Space Technology Mission Directorate Update

—Cryogenic Fluid Management Investments Overview

—Mars Architecture Technology Drivers Overview

—Chief Technologist Update

—Update on In-Space Manufacturing and Assembly

—Small Spacecraft Technology Study Update

—Chief Engineer Update

Attendees will be requested to sign a register and to comply with NASA security requirements, including the presentation of a valid picture ID, before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Minnesota, Missouri, and Washington. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee to Ms. Anyah Dembling via email at anyah.dembling@nasa.gov or by telephone at (202) 358-5195. To expedite admittance, attendees with U.S. citizenship and Permanent Residents (green card holders) can provide full name and citizenship status no less than 3 working days in advance by contacting Ms. Anyah Dembling via email at anyah.dembling@nasa.gov or by telephone at (202) 358-5195.

Patricia D. Rausch,
Advisory Committee Management Officer, National Aeronautics and Space Administration.

[FR Doc. 2016-25798 Filed 10-25-16; 8:45 am]

BILLING CODE 7510-13-P